DEPARTMENT OF HEALTH AND HUMAN SERVICES

Notice of Meeting of the Advisory Committee on Blood Safety and Availability

AGENCY: Office of the Secretary, HHS.

ACTION: Notice of meeting.

The Advisory Committee on Blood Safety and Availability will meet on Thursday April 19, 2001 and Friday April 20, 2001 from 8 a.m. to 5 p.m. The meeting will take place at the Hyatt Regency Hotel on Capitol Hill, 400 New Jersey Ave., NW., Washington, DC 20001. The meeting will be entirely open to the public.

The first item on the agenda will be what should be the Department's current and future actions under its Blood Action Plan to monitor the availability of blood products in the United States. Specific comment will be solicited on what parameters should be monitored, how these parameters should be analyzed, and where responsibility for this activity should rest.

The second item on the agenda will be what, if any, actions the Department of Health and Human Services should take to strengthen current efforts to promote blood safety and availability throughout the world.

Public comment will be solicited at the meeting. Public comment will be limited to five minutes per speaker. Those who wish to have printed material distributed to Advisory Committee members should submit thirty (30) copies to the Executive Secretary prior to close of business April 5, 2001. In addition, anyone planning to comment on either item is encouraged to contact the Executive Secretary at his/her earliest convenience.

FOR FURTHER INFORMATION CONTACT: Stephen D. Nightingale, M.D., Executive Secretary, Advisory Committee on Blood Safety and Availability, Department of Health and Human Services, Office of Public Health and Science, 200 Independence Ave., SW., Room 736-E, Washington, DC 20201. Phone (202) 690-5560. FAX (202) 690-7560, e-mail StephenDNightingale@osophs.dhhs.gov.

Dated: February 13, 2001.
Stephen D. Nightingale,
Executive Secretary Advisory Committee on Blood Safety and Availability.

[FR Doc. 01-4243 Filed 2-20-01; 8:45 am]

BILLING CODE 4160-17-M